DEPARTMENT OF TRANSPORTATION

National Highway Traffic Safety Administration

Distracted Driving Grant Program

AGENCY: National Highway Traffic Safety Administration (NHTSA), Department of Transportation (DOT).

ACTION: Notice.

SUMMARY: Pursuant to the Moving Ahead for Progress in the 21st Century Act (MAP-21), the Department of Transportation (DOT) announced the availability of funding authorized for distracted driving grants on August 24, 2012. In this notice, DOT is extending the application submission deadline announced in the notice of availability of funding to February 28, 2013.

DATES: This notice is effective October 5, 2012.

FOR FURTHER INFORMATION CONTACT: Dr. Mary D. Gunnels, Associate Administrator, Regional Operations and Program Delivery, National Highway Traffic Safety Administration, Telephone number: 202-366-2121; Email: Maggi.Gunnels@dot.gov.

SUPPLEMENTARY INFORMATION: On July 6, 2012, the President signed into law the “Moving Ahead for Progress in the 21st Century Act” (MAP-21), Public Law 112-141, which created a new distracted driving grant program. DOT recently published a notice of funding availability (NOFA) for the distracted driving grant program, 77 FR 51610 (Aug. 24, 2012), which established an application deadline of October 9, 2012 for FY 2013 grants. Today's notice extends that application deadline to February 28, 2013. Applications for FY 2013 distracted driving grants must now be received by 11:59 p.m. Eastern Time on February 28, 2013.

Authority: Pub. L. 112-141, Section 31105; 23 U.S.C. 405(e) (as set forth in MAP-21); delegation of authority at 49 CFR §§ 1.94 and 1.95.

Issued on: October 1, 2012.
Ronald L. Medford,
Deputy Administrator, National Highway Traffic Safety Administration.

[FR Doc. 2012-24629 Filed 10-4-12; 8:45 am]

BILLING CODE 4910-59-P